DEPARTMENT OF COMMERCE

International Trade Administration

[A-427-820]

Stainless Steel Bar from France: Notice of Rescission of Antidumping Duty Administrative Review

AGENCY: Import Administration, International Trade Administration, Department of Commerce.

EFFECTIVE DATE: June 14, 2006.

FOR FURTHER INFORMATION CONTACT: David Goldberger or Terre Keaton, AD/CVD Operations, Office 2, Import Administration, International Trade Administration, U.S. Department of Commerce, 14th Street and Constitution Avenue, NW, Washington, DC 20230; telephone: (202) 482-4136 or (202) 482-1280, respectively.

SUPPLEMENTARY INFORMATION:

Background

On March 2, 2006, the Department published in the Federal Register (71 FR 10642) a notice of “Opportunity To Request Administrative Review” of the antidumping duty order on stainless steel bar from France for the period March 1, 2005, through February 28, 2006. On March 31, 2006, Ugitech S.A. (Ugitech) requested an administrative review of its U.S. sales that were subject to the antidumping duty order on stainless steel bar from France for this period. On April 28, 2006, the Department published a notice of initiation of an administrative review of the antidumping duty order on stainless steel bar from France with respect to this company. See Notice of Initiation of Antidumping and Countervailing Duty Administrative Reviews, 71 FR 25145 (April 28, 2006).

Rescission of Review

On May 2, 2006, Ugitech timely withdrew its request for an administrative review of its sales during the above-referenced period. Section 351.213(d)(1) of the Department's regulations stipulates that the Secretary will rescind an administrative review if the party that requests a review withdraws the request within 90 days of the date of publication of notice of initiation of the requested review. In this case, Ugitech has withdrawn its request for review within the 90-day period. Ugitech was the sole party to request the initiation of the review. Therefore, we are rescinding this review of the antidumping duty order on stainless steel bar from France.

This notice is published in accordance with section 751(a)(1) of the Tariff Act of 1930, as amended, and 19 CFR 351.213(d)(4).

Dated: June 7, 2006.
Stephen J. Claeys,
Deputy Assistant Secretary for Import Administration.

[FR Doc. E6-9222 Filed 6-13-06; 8:45 am]

BILLING CODE 3510-DS-S